DEPARTMENT OF COMMERCE

National Oceanic and Atmospheric Administration

[I.D. 042500A]

Atlantic Highly Migratory Species; Exempted Fishing Permits

AGENCY: National Marine Fisheries Service (NMFS), National Oceanic and Atmospheric Administration (NOAA), Commerce.

ACTION: Issuance of EFPs; request for comments.

SUMMARY: NMFS requests comment on its intent to issue Exempted Fishing Permits (EFPs) to qualifying holders of Atlantic Swordfish and Shark limited access permits who held an Atlantic Tunas permit in a commercial category other than the Longline category at the time the Highly Migratory Species Fishery Management Plan (HMS FMP) was implemented on July 1, 1999. If issued, these EFPs would exempt eligible applicants from the requirement to have a valid Atlantic Tunas Longline category permit for authorization to retain swordfish and to fish for Atlantic tunas (other than Atlantic bluefin tuna) with pelagic longline gear.

DATES: Written comments on issuance of the subject EFPs must be received on or before May 26, 2000.

ADDRESSES: Send comments to Rebecca Lent, Chief, Highly Migratory Species Management Division (F/SF1), NMFS, 1315 East-West Highway, Silver Spring, MD 20910. Copies of the regulations pertaining to issuance of EFPs for Atlantic HMS as well as the application information may also be requested from the Highly Migratory Species Management Division. Comments will not be accepted if submitted via email or internet.

FOR FURTHER INFORMATION CONTACT: Margo Schulze-Haugen or Karyl Brewster-Geisz; phone: 301-713-2347; fax: 301-713-1917.

SUPPLEMENTARY INFORMATION: EFPs for the Atlantic HMS fisheries are issued under the authority of the Magnuson-Stevens Fishery Conservation and Management Act (16 U.S.C. 1801 et seq.) and/or the Atlantic Tunas Convention Act (16 U.S.C. 971 et seq.). Implementing regulations concerning scientific research activity, exempted fishing, and exempted educational activity, pertaining to the Atlantic HMS fisheries appear at 50 CFR 600.745 and 50 CFR 635.32. NMFS may issue EFPs to authorize activities otherwise prohibited by the Atlantic HMS regulations at 50 CFR 635. Such EFPs are at times necessary to facilitate the conduct of scientific research or the acquisition of information and data, for the enhancement of safety at sea, for the purpose of collecting animals for public education or display, or for investigating means of reducing bycatch, economic discards or regulatory discards.

Among other things, the HMS FMP implemented a limited access program for the swordfish and shark fisheries. To reduce the potential for regulatory discards of sharks, swordfish and tunas in the pelagic longline fisheries, the HMS FMP also established limited access for the Atlantic Tunas Longline category. The regulations implementing the HMS FMP specify that only vessels issued an Atlantic Tunas Longline category permit as well as limited access permits for both Atlantic Sharks and Atlantic Swordfish are authorized to use pelagic longline gear to fish for Atlantic tunas other than Atlantic bluefin tuna [§ 635.21(d)(1)]. Further, the regulations stipulate that a limited access permit for swordfish is not valid unless the vessel has also been issued a limited access shark permit and an Atlantic Tunas Longline category permit [§ 635.4(f)(4)].

This new requirement to hold all three limited access permits presumed that vessels were specialized for the pelagic longline fisheries and was necessary to cap fishing effort and avoid regulatory discards. However, the joint permit requirement precludes certain vessel operators, who did not previously have an Atlantic Tunas Longline category permit, from using pelagic longline gear and from retaining Atlantic swordfish or BAYS tunas (bigeye, albacore, yellowfin, or skipjack tunas) taken by longline gear [§ 635.4(l)(2)(viii) and (ix)]. These vessel operators had maintained permits in other Atlantic Tunas commercial categories as needed to conduct their preferred directed fishing operations for bluefin tuna (e.g., Atlantic Tunas General category). When the bluefin tuna season was closed, these vessel operators conducted longline fisheries for sharks, swordfish and BAYS and, consequently, their catch histories qualified the vessels for limited access swordfish and/or shark permits. For these vessel operators, retaining the Atlantic Tunas permit in the preferred category for directed bluefin tuna fishing now causes a conflict with regulations on using pelagic longline gear.

At the time the HMS FMP was implemented, NMFS issued EFPs for the 1999 fishing year to those Atlantic Swordfish and Shark limited access permit holders who also held valid Atlantic Tunas permits in categories other than Longline. NMFS deemed this action appropriate because the new regulations inadvertently prohibited activities that had previously been authorized and because it was not clear what economic impacts would result if these vessel operators could no longer participate in multiple seasonal fisheries. The EFPs authorized the use of pelagic longline gear in the swordfish/BAYS fisheries and authorized the retention of Atlantic swordfish while allowing the vessel owner to retain the Atlantic Tunas permits in the preferred directed bluefin fishing commercial category. In this way, unintended adverse economic impacts were mitigated while NMFS collected information to assess the need for changes to the regulations.

NMFS intends to re-issue such EFPs for the 2000 fishing year, pending submission of an application, which includes economic information on the use of multiple gears during the 1999 and expected 2000 fishing years. NMFS is seeking public comment on its intention to re-issue these EFPs for the purpose of additional economic data collection prior to evaluating the need for regulatory changes.

NMFS is also seeking public comment on possible issuance of EFPs to vessel owners who currently have the required limited access permits for Atlantic Swordfish, Atlantic Sharks and the Atlantic Tunas Longline category, but who would elect to obtain an Atlantic Tunas commercial permit in another category in order to conduct other seasonal fisheries (e.g., handgear instead of longline). Note that Atlantic bluefin tuna caught with longline gear could not be retained with such an EFP. NMFS has received a request from a fisherman interested in obtaining an EFP so that he can fish in the Atlantic Tunas Charter/Headboat category on a seasonal basis and still retain Atlantic swordfish and BAYS taken with longline gear at other times. Issuing EFPs in such cases would broaden the eligibility to vessel owners who are not in conflict with the current regulations but who would now elect to participate in multiple seasonal fisheries. Issuing EFPs in such cases would broaden the means of collecting additional economic information from prospective multiple gear fishermen.

A final decision on issuance of EFPs will depend on the submission of all required information, NMFS' review of public comments received on the applications, conclusions of any environmental analyses conducted pursuant to the National Environmental Policy Act, and on any consultations with any appropriate Regional Fishery Management Councils, states, or Federal agencies. For copies of the HMS fishing regulations, EFP application materials and information on special reporting requirements for those persons issued EFPs, contact Rebecca Lent (see ADDRESSES).

Authority: 16 U.S.C. 1801 et seq.

Dated: May 11, 2000.
Bruce C. Morehead,
Acting Director, Office of Sustainable Fisheries, National Marine Fisheries Service.

[FR Doc. 00-12275 Filed 5-11-00; 3:16 pm]

BILLING CODE 3510-22-F